DEPARTMENT OF ENERGY

Federal Energy Regulatory Commission

Combined Notice of Filings #1

Take notice that the Commission received the following electric corporate filings:

Docket Numbers: EC20-104-000.

Applicants: Milligan 1 Wind LLC.

Description: Application for Authorization Under Section 203 of the Federal Power Act, et al. of Milligan 1 Wind LLC.

Filed Date: 9/25/20.

Accession Number: 20200925-5061.

Comments Due: 5 p.m. ET 10/16/20.

Take notice that the Commission received the following electric rate filings:

Docket Numbers: ER04-835-010.

Applicants: California Independent System Operator Corporation.

Description: Response to August 25, 2020 Deficiency Letter of the California Independent System Operator Corporation.

Filed Date: 9/24/20.

Accession Number: 20200924-5150.

Comments Due: 5 p.m. ET 10/15/20.

Docket Numbers: ER16-1720-014.

Applicants: Invenergy Energy Management LLC.

Description: Notice of Change in Facts under Market-Based Rate Authority of Invenergy Energy Management LLC.

Filed Date: 9/24/20.

Accession Number: 20200924-5129.

Comments Due: 5 p.m. ET 10/15/20.

Docket Numbers: ER20-2983-000.

Applicants: Midcontinent Independent System Operator, Inc.

Description: § 205(d) Rate Filing: 2020-09-25_SA 3151 Rosewater Wind Farm-NIPSCO GIA 1st Rev (J513) to be effective 9/11/2020.

Filed Date: 9/25/20.

Accession Number: 20200925-5022.

Comments Due: 5 p.m. ET 10/16/20.

Docket Numbers: ER20-2984-000.

Applicants: PJM Interconnection, L.L.C.

Description: Tariff Cancellation: Notice of Cancellation of ICSA, SA No. 2808 to be effective 9/18/2014.

Filed Date: 9/25/20.

Accession Number: 20200925-5040.

Comments Due: 5 p.m. ET 10/16/20.

Docket Numbers: ER20-2985-000.

Applicants: Midcontinent Independent System Operator, Inc, American Transmission Company LLC.

Description: § 205(d) Rate Filing: 2020-09-25_ATCLLC Attachment O SATOA Filing to be effective 11/25/2020.

Filed Date: 9/25/20.

Accession Number: 20200925-5044.

Comments Due: 5 p.m. ET 10/16/20.

Docket Numbers: ER20-2986-000.

Applicants: PJM Interconnection, L.L.C.

Description: Tariff Cancellation: Notice of Cancellation of ICSA, SA No. 3055; Queue No. NQ47 to be effective 6/23/2015.

Filed Date: 9/25/20.

Accession Number: 20200925-5048.

Comments Due: 5 p.m. ET 10/16/20.

Docket Numbers: ER20-2987-000.

Applicants: PJM Interconnection, L.L.C.

Description: Tariff Cancellation: Notice of Cancellation of ICSA, SA No. 4300; Queue No. Z1-079 to be effective 7/26/2017.

Filed Date: 9/25/20.

Accession Number: 20200925-5053.

Comments Due: 5 p.m. ET 10/16/20.

Docket Numbers: ER20-2988-000.

Applicants: PJM Interconnection, L.L.C.

Description: Tariff Cancellation: Notice of Cancellation of ICSA, SA No. 2643; Queue No. T157 to be effective 10/17/2018.

Filed Date: 9/25/20.

Accession Number: 20200925-5060.

Comments Due: 5 p.m. ET 10/16/20.

Docket Numbers: ER20-2989-000.

Applicants: Alabama Power Company.

Description: § 205(d) Rate Filing: Central Alabama IA Amendment Filing to be effective 8/31/2020.

Filed Date: 9/25/20.

Accession Number: 20200925-5065.

Comments Due: 5 p.m. ET 10/16/20.

Docket Numbers: ER20-2990-000.

Applicants: PJM Interconnection, L.L.C.

Description: § 205(d) Rate Filing: Revisions to PJM Tariff re: Peak Market Activity Calculation to be effective 12/1/2020.

Filed Date: 9/25/20.

Accession Number: 20200925-5069.

Comments Due: 5 p.m. ET 10/16/20.

Docket Numbers: ER20-2991-000.

Applicants: PJM Interconnection, L.L.C.

Description: Tariff Cancellation: Notice of Cancellation of ICSA, SA No. 2642; Queue No. W4-037 to be effective 10/17/2018.

Filed Date: 9/25/20.

Accession Number: 20200925-5076.

Comments Due: 5 p.m. ET 10/16/20.

Docket Numbers: ER20-2992-000.

Applicants: PJM Interconnection, L.L.C.

Description: Tariff Cancellation: Notice of Cancellation of ICSA, SA No. 2972; Queue No. NQ54 to be effective 10/1/2011.

Filed Date: 9/25/20.

Accession Number: 20200925-5082.

Comments Due: 5 p.m. ET 10/16/20.

Docket Numbers: ER20-2993-000.

Applicants: Tucson Electric Power Company.

Description: § 205(d) Rate Filing: Rate Schedule No. 345, Pseudo-Tie Agreement to be effective 9/28/2020.

Filed Date: 9/25/20.

Accession Number: 20200925-5087.

Comments Due: 5 p.m. ET 10/16/20.

Docket Numbers: ER20-2994-000.

Applicants: Tenaska Alabama II Partners, L.P., Alabama Power Company.

Description: Notice of Cancellation of Reactive Power Tariff of Tenaska Alabama II Partners, L.P., et al.

Filed Date: 9/25/20.

Accession Number: 20200925-5102.

Comments Due: 5 p.m. ET 10/16/20.

Docket Numbers: ER20-2995-000.

Applicants: INFINITE ENERGY INC.

Description: Notice of Cancellation of Market-Based Rate Tariff of Infinite Energy, Inc.

Filed Date: 9/25/20.

Accession Number: 20200925-5108.

Comments Due: 5 p.m. ET 10/16/20.

Docket Numbers: ER20-2996-000.

Applicants: Catalyst Old River Hydroelectric Limited Partnership.

Description: § 205(d) Rate Filing: Revised Market-Based Rate Tariff to be effective 9/26/2020.

Filed Date: 9/25/20.

Accession Number: 20200925-5111.

Comments Due: 5 p.m. ET 10/16/20.

Docket Numbers: ER20-2997-000.

Applicants: RE Mustang Two Whirlaway LLC.

Description: § 205(d) Rate Filing: RE Mustang Two Whirlaway LLC MBR Tariff to be effective 9/26/2020.

Filed Date: 9/25/20.

Accession Number: 20200925-5112.

Comments Due: 5 p.m. ET 10/16/20.

Docket Numbers: ER20-2998-000.

Applicants: RE Mustang Two Barbaro LLC.

Description: § 205(d) Rate Filing: RE Mustang Two Barbaro LLC MBR Tariff to be effective 9/26/2020.

Filed Date: 9/25/20.

Accession Number: 20200925-5113.

Comments Due: 5 p.m. ET 10/16/20.

Docket Numbers: ER20-2999-000.

Applicants: New York Independent System Operator, Inc.

Description: § 205(d) Rate Filing: 205 tariff revisions of Regulatory Milestone provisions to be effective 11/25/2020.

Filed Date: 9/25/20.

Accession Number: 20200925-5114.

Comments Due: 5 p.m. ET 10/16/20.

Take notice that the Commission received the following electric securities filings:

Docket Numbers: ES20-54-000.

Applicants: Oklahoma Gas and Electric Company.

Description: Application Under Section 204 of the Federal Power Act for Authorization to Issue Securities of Oklahoma Gas and Electric Company.

Filed Date: 9/24/20.

Accession Number: 20200924-5178.

Comments Due: 5 p.m. ET 10/15/20.

Take notice that the Commission received the following electric reliability filings:

Docket Numbers: RR20-4-000.

Applicants: North American Electric Reliability Corporation.

Description: Amendment to June 12, 2020 Petition of the North American Electric Reliability Corporation for Approval of Amended Compliance and Certification Committee Charter.

Filed Date: 9/25/20.

Accession Number: 20200925-5089.

Comments Due: 5 p.m. ET 10/16/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2020.
Nathaniel J. Davis, Sr.,
Deputy Secretary.

[FR Doc. 2020-21706 Filed 9-30-20; 8:45 am]

BILLING CODE 6717-01-P